DEPARTMENT OF LABOR

Office of the Secretary

Submission for OMB Review; Comment Request

July 1, 2002.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation contact Marlene Howze at ((202) 693-4158 or Email Howze-Marlene@dol.gov.

Comments should be sent to Office of Information and Regulatory Affairs, Attn: OMB Desk Officer for ESA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Type of Review: Revision of a currently approved collection.

Agency: Employment Standards Administration (ESA).

Title: FECA Medical Report Forms, Claim for Compensation.

OMB Number: 1215-0103.

Affected Public: Business or other for-profit; Individuals or households; and Federal Government.

Frequency: As Needed.

Number of Respondents: 286,010.

Number of Annual Responses: 286,010.

Estimated Response Times and Total Burden Hours:

Form No. | Number of respondents | Average minutes per response | Total burden hours
CA-7 | 400 | 13 | 87
CA-16B | 130,000 | 5 | 10,833
CA-17B | 60,000 | 5 | 5,000
CA-20 | 65,000 | 5 | 5,417
CA-1090 | 200 | 10 | 33
CA-1303 | 2,000 | 20 | 6667
CA-1305 | 10 | 20 | 3
CA-1331 | 200 | 5 | 17
CA-1332 | 200 | 30 | 100
QCM Letters | 1,000 | 5 | 83
OWCP-5A | 7,000 | 15 | 1,750
OWCP-5B | 5,000 | 15 | 1,250
OWCP-5C | 15,000 | 15 | 3,750
Burden Totals | 286,010 | 163 | 28,990

Total Annualized Capital/Startup Costs: $0.

Total Annual Costs (operating/maintaining systems or purchasing services): $105,824.00.

Description: The Office of Workers' Compensation Programs administers the Federal Employees' Compensation Act (5 U.S.C. 8101, et seq). The statute provides for continuation of benefits for wage loss and/or for permanent impairment to a scheduled member, arising out of a work related injury or disease. The Act outlines the elements of pay which are to be included in an individual's pay rate, and sets forth various other criteria for determining eligibility to and the amount of benefits, including augmentation of basic compensation for individuals with qualifying dependents; a requirement to report any earnings during a period that compensation is claimed; a prohibition against concurrent receipt of FECA benefits and benefits from OPM or certain VA benefits; and a mandate that money collected from a liable third party found responsible for the injury for which compensation has been paid be applied to benefits paid or payable. The CA 7 is used to claim compensation and the other forms in this clearance collect medical information necessary to determine entitlement to benefits under the FECA. Without the requested information, an eligible beneficiary could be denied benefits, or benefits could be authorized at an incorrect rate, resulting in an underpayment or overpayment of compensation.

Ira L. Mills,
Departmental Clearance Officer.

[FR Doc. 02-17320 Filed 7-9-02; 8:45 am]

BILLING CODE 4510-CH-M